DEPARTMENT OF THE INTERIOR

Fish and Wildlife Service

[FWS-R1-R-2009-N221; 10137-1265-0000 S3]

Guam National Wildlife Refuge, Yigo, Guam

AGENCY: Fish and Wildlife Service, Interior.

ACTION: Notice of availability of comprehensive conservation plan and finding of no significant impact.

SUMMARY: We, the U.S. Fish and Wildlife Service (Service), announce the availability of our final comprehensive conservation plan (CCP) and finding of no significant impact (FONSI) for the Guam National Wildlife Refuge (Refuge). In the final CCP, we describe how we will manage this Refuge for the next 15 years.

ADDRESSES: You may view or obtain copies of the final CCP/FONSI by any of the following methods. You may request either a hard copy or CD-ROM.

Agency Web Site: Review or download a copy of the document at http://www.fws.gov/pacific/planning/.

E-mail: Joseph_Schwagerl@fws.gov. Include “Guam Refuge CCP” in the subject line of the message.

Mail: Guam National Wildlife Refuge, Route 3A, Spur Road, Yigo, Guam 96929.

In-Person Viewing or Pickup: Call (671) 355-5096 to make an appointment during regular business hours at the Refuge office.

FOR FURTHER INFORMATION CONTACT: Joseph Schwagerl at (671) 355-5096 or Joseph_Schwagerl@fws.gov.

SUPPLEMENTARY INFORMATION:

Introduction

With this notice, we finalize the CCP process for the Guam Refuge. We started this process through a notice of intent in the Federal Register (72 FR 37037, July 6, 2007). We released the Draft CCP and environmental assessment (EA) to the public, announcing and requesting comments in a notice of availability in the Federal Register (74 FR 36249, July 22, 2009).

The Guam Refuge is located on the unincorporated U.S. territory of Guam. Guam is the largest and southernmost island in the Marianas archipelago, situated in the western Pacific Ocean approximately 3,800 miles west of Honolulu, Hawaii, and 1,500 miles south of Tokyo, Japan. The Refuge is comprised of three units: the Andersen Air Force Base Overlay Refuge Unit, the Navy Overlay Refuge Unit, and the Ritidian Unit. The Ritidian Unit, the focus of this CCP, is located on the northern tip of Guam and encompasses 1,217 acres, including 385 terrestrial acres and 832 acres of submerged offshore area. Management planning for the overlay units is being addressed in Integrated Natural Resource Management Plans (INRMP). Planning for the INRMPs is being conducted by the Units' respective military branches.

We completed the CCP/FONSI in accordance with National Environmental Policy Act (NEPA) (40 CFR 1506.6(b)) requirements. We completed a thorough analysis of impacts on the human environment, which we included in the Draft CCP/EA. The CCP will guide us in managing and administering the Refuge for the next 15 years. Alternative B, as we described in the Draft CCP, is the foundation for the Final CCP with one modification.

Background

The National Wildlife Refuge System Administration Act of 1966 (16 U.S.C. 668dd-668ee) (Administration Act), as amended by the National Wildlife Refuge System Improvement Act of 1997, requires us to develop a CCP for each National Wildlife Refuge. The purpose for developing a CCP is to provide refuge managers with a 15-year direction for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Administration Act.

CCP Alternatives, Including the Selected Alternative

We addressed several issues in our Draft CCP/EA by developing and evaluating the following alternatives:

Alternative A, Current Management | This is the no-action or no-change Alternative. It serves as a baseline from which to compare the other alternatives.
Alternative B (Preferred Alternative), Full Habitat and Species Enhancement | This alternative would generate an intense, short-term increase in wildlife and habitat management activities.
Alternative C, Habitat Enhancement and Public Use Restrictions | This alternative provides for a modest increase in wildlife and habitat management.

Comments

We solicited comments on the Draft CCP/EA from July 22, 2009, to August 24, 2009. We received 15 responses on the Draft CCP/EA.

Selected Alternative

After considering the comments we received, we have selected Alternative B for the CCP. Implementing the CCP will encompass the following actions, subject to the availability of funding and any additional compliance requirements.

• We will construct a predator-proof barrier to address habitat damage issues, as well as impacts to threatened and endangered species.

• In conjunction with barrier construction, the Refuge will initiate an intensive program to reduce non-native pest species.

• The Refuge will work with staff from the Guam Department of Agriculture to develop a soft-release site and release program for captive-reared bird species.

• We will implement habitat restoration as planned in the CCP.

• We will increase the public-use program, including adding interpretive opportunities, such as a short interpretive trail, and increasing outreach and off-site environmental education possibilities.

• Increasing protection for the Refuge's cultural resources will also occur under the CCP.

Dated: May 3, 2010.
Carolyn A. Bohan,
Regional Director, Region 1, Portland, Oregon.

[FR Doc. 2010-12438 Filed 5-21-10; 8:45 am]

BILLING CODE 4310-55-P